DEPARTMENT OF TRANSPORTATION

Federal Highway Administration

Notice of Funding Availability for the Tribal Transportation Program Safety Funding

AGENCY: Federal Highway Administration (FHWA), Department of Transportation (DOT).

ACTION: Notice of funding availability.

SUMMARY: This notice announces the availability of funding and requests grant applications for FHWA's Tribal Transportation Program Safety Funds (TTPSF). In addition, this notice identifies selection criteria, application requirements, and technical assistance during the grant solicitation period for the TTPSF.

The TTPSF is authorized within the Tribal Transportation Program (TTP) under the Moving Ahead for Progress in the 21st Century Act (MAP-21), as extended. The FHWA will distribute these funds as described in this notice on a competitive basis in a manner consistent with the selection criteria.

DATES: Applications must be submitted through ttpsf@dot.gov no later than 5 p.m., e.t. on August 25, 2015 (the “application deadline”). Applicants are encouraged to submit applications in advance of the application deadline; however, applications will not be evaluated, and awards will not be made until after the application deadline.

The FHWA plans to conduct outreach regarding the TTPSF in the form of a Webinar on July 15, 2015 at 2:00 p.m., e.t. To join the Webinar, please click this link then enter the room as a guest: https://connectdot.connectsolutions.com/tribaltrans/. The audio portion of the Webinar can be accessed from this teleconference line: TOLL FREE 1-888-251-2909; ACCESS CODE 4442306. The Webinar will be recorded and posted on FHWA's Web site at: http://www.flh.fhwa.dot.gov/programs/ttp/safety/. A TDD is available for individuals who are deaf or hard of hearing at 202-366-3993.

ADDRESSES: Applications must be submitted electronically to ttpsf@dot.gov.

FOR FURTHER INFORMATION CONTACT: For further information concerning this notice please contact Russell Garcia, TTPSF Program Manager, via email at russell.garcia@dot.gov; by telephone at 202-366-9815; or by mail at Federal Highway Administration, 1200 New Jersey Avenue SE., Washington, DC 20590. Office hours are from 8:00 a.m. to 4:30 p.m. e.t., Monday through Friday, except Federal holidays. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

SUPPLEMENTARY INFORMATION: On August 5, 2013, FHWA published the first notice of funding availability for the TTPSF (78 FR 47480). On November 13, 2013, FHWA awarded 183 tribes a total of $8.6 million for 193 projects. On May 14, 2014, FHWA published the second notice of funding availability for the TTPSF (78 FR 47480). On March 10, 2015, FHWA awarded 82 tribes a total of $8.5 million for 94 projects to improve transportation safety on tribal lands. The FHWA is publishing this third notice to announce the availability of an additional round of funding and request grant applications.

Table of Contents

A. Program Description

B. Federal Award Information

C. Eligibility Information

1. Eligible Applicants

2. Cost Sharing or Matching

D. Application and Submission Information

1. Address To Request Application Package

2. Content and Form of Application Submission

3. Unique Entity Identifier and System for Award Management (SAM)

4. Submission Dates and Time

5. Intergovernmental Review

6. Funding Restrictions

7. Other Submission Requirements

E. Application Review Information

1. Criteria

i. Safety Plans and Safety Planning Activities (funding goal 40 percent of TTPSF)

ii. Engineering Improvements (funding goal 30 percent of TTPSF)

iii. Enforcement and Emergency Services Improvements (funding goal 20 percent of TTPSF)

iv. Education Programs (funding goal 10 percent of TTPSF)

2. Review and Selection Process

i. Safety Plans and Safety Planning Activities

ii. Engineering Improvements

iii. Enforcement and Emergency Services

iv. Education Programs

F. Federal Award Administration Information

1. Federal Award Notice

2. Administrative and National Policy

3. Reporting

G. Federal Awarding Agency Contact(s)

H. Other Information

1. Protection of Confidential Business Information

A. Program Description

Since the TTPSF was created under MAP-21, $17.1 million has been awarded to 265 Indian tribes for 287 projects to address safety issues in Indian country over two rounds of competitive grants. The intent of the TTPSF is to address the prevention and reduction of death or serious injuries in transportation related crashes on tribal lands where statistics are consistently higher than the rest of the nation as a whole.

The TTPSF emphasizes the development of Strategic Transportation Safety Plans using a data driven process as a means for tribes to determine how transportation safety needs will be addressed in tribal communities. Tribal Transportation Safety Plans are a tool used to identify risk factors that lead to serious injury or death and organize various entities to strategically reduce risk; projects submitted must be tied to a comprehensive safety strategy and be based on incident history (i.e., data).

Throughout the past two grant cycles, TTPSF awards have supported safety planning, engineering, enforcement and emergency services, and education projects. Successful TTPSF projects leverage resources, encourage partnership, and have the data to support the applicants' approach in addressing the prevention and reduction of death or serious injuries in transportation related crashes. A listing of the safety projects/activities that were previously submitted by the Tribes and awarded TTP safety funds, as well as additional safety related information can be found on the TTP Safety Web site at http://flh.fhwa.dot.gov/programs/ttp/safety/ttpsf.htm.

In FY 2015, the TTPSF will continue to fund projects of all eligible types, including projects that are highway safety improvement projects eligible under the Highway Safety Improvement Program as described in 23 United States Code (U.S.C.) 148(a)(4), in the same four categories identified in the previous two rounds: (1) Safety plans and safety planning activities (40 percent); (2) engineering improvements (30 percent); (3) enforcement and emergency services improvements (20 percent); and (4) education programs (10 percent).

The TTPSF Web site includes a series of tools to help an applicant prepare a successful grant application. Please explore the grant application tools at: http://flh.fhwa.dot.gov/programs/ttp/safety/ttpsf.htm.

B. Federal Award Information

The MAP-21 (Pub. L. 112-141) authorizes TTPSF as a set aside of not more than 2 percent of the funds made available under the TTP for FY 2013 and 2014. The Highway Transportation Funding Act of 2014 (Pub. L. 113-159) extended the provisions of MAP-21, including the TTPSF set aside, through May 31, 2015. Although the Fiscal Year (FY) 2015 TTPSF full-year funding level is unknown at this time, this notice of funding availability solicits proposals under the TTPSF for FY 2015. Section 202(e) of Title 23, U.S.C., provides that funds are to be allocated based on an identification and analysis of highway safety issues and opportunities on tribal lands, as determined by the Secretary, on application of the Indian tribal governments for eligible projects described in 23 U.S.C. 148(a)(4). Eligible projects described in section 148(a)(4) include strategies, activities, and projects on a public road that are consistent with a State strategic highway safety plan and correct or improve a hazardous road location or feature, or address a highway safety problem.

Section 202(e) further specifies that in applying for TTPSF, an Indian tribal government, in cooperation with the Secretary of the Interior and, as appropriate, with a State, local government, or metropolitan planning organization, shall select projects from the transportation improvement program, subject to the approval of the Secretary of Transportation and the Secretary of the Interior.

Upon award, TTPSF will be administered the same way as all TTP funds: FHWA Agreement tribes will receive funds in accordance with their Program Agreement through a Referenced Funding Agreement (RFA); Bureau of Indian Affairs (BIA) Agreement tribes will receive their funds through their BIA Regional Office; and Compact tribes will receive their funds through the Department of the Interior's Office of Self Governance. Upon completion of a TTPSF project, funds that are not expended are to be recovered and returned to the TTPSF funding pool to be made available for the following TTPSF grant cycle.

C. Eligibility Information

To be selected for a TTPSF award, an applicant must be a federally recognized Indian tribe and the project must be an Eligible Project.

1. Eligible Applicants

Eligible Applicants for TTPSF discretionary grants are federally recognized tribes identified on the list of “Indian Entities Recognized and Eligible to Receive Services from the Bureau of Indian Affairs” (published at 77 FR 47868). Other entities may partner with a tribal government to submit an application, but the Eligible Applicant must be a federally recognized Indian tribe. A tribe may submit more than one application; however, only one project may be included in each application.

Recipients of prior TTPSF funds may submit applications during this current round according to the selection criteria. However, to be competitive, the applicant should demonstrate the extent to which the previously funded project or projects has been able to meet estimated project schedules and budget, as well as the ability to realize the outcomes for previous awards.

2. Cost Sharing or Matching

There is no matching requirement for the TTPSF. However, if the total amount of funding requested for applications rated “highly qualified” or “qualified” exceeds the amount of available funding, FHWA will give priority consideration to those projects that show a commitment of other funding sources to complement the TTPSF funding request. Therefore, leveraging a TTPSF request with other funding sources identified in Section E is encouraged.

D. Application and Submission Information

1. Address To Request Application Package

Application package can be downloaded from the TTPSF Web site: http://flh.fhwa.dot.gov/programs/ttp/safety/ttpsf.htm. Applicants may also request a paper copy of this application package by contacting Russell Garcia at 202-366-9815. For a Telephone Device for the Deaf (TDD) please call 202-366-3993. The application must be submitted through ttpsf@dot.gov. Applicants are encouraged to submit applications in advance of the application deadline; however, applications will not be evaluated, and awards will not be made until after the application deadline.

2. Content and Form of Application Submission

Additional information, including additional data, may be requested by FHWA to clarify an application, but FHWA encourages applicants to submit the most relevant and complete information the applicant can provide. The FHWA also encourages applicants, to the extent practicable, to provide data and evidence of project merits in a form that is publicly available or verifiable.

The applicants should include the following information in their applications:

i. Standard Form 424, Applications for Federal Assistance

A complete application must consist of the Standard Form 424 (SF 424) available at http://flh.fhwa.dot.gov/programs/ttp/safety.

ii. Narrative (Attachment to SF 424)

Applicants must attach a supplemental narrative to their submission to successfully complete the application process. The applicant must include the supplemental narrative in the attachments section of the SF 424 mandatory form.

The applicant must identify the eligibility category for which the applicant is seeking funds in the project narrative. In addition, the applicant should address each question or statement in the application. It is recommended that the applicant use standard formatting (e.g., a single-spaced document, using a standard 12-point font, such as Times New Roman, with 1-inch margins) to prepare their application narrative. An application must include any information needed to verify that the project meets the statutory eligibility criteria in order for the FHWA to evaluate the application against TTPSF criteria.

Applicants should demonstrate the responsiveness of their proposal to any pertinent selection criteria with the most relevant information that applicants can provide, and substantiated by data, regardless of whether such information is specifically requested, or identified, in the final notice. Applicants should provide evidence of the feasibility of achieving certain project milestones, financial capacity, and commitment in order to support project readiness.

Consistent with the requirements for an eligible highway safety improvement project under 23 U.S.C. 148(a)(4), applicants must describe clearly how the project would correct or improve a hazardous road location or feature, or would address a highway safety problem. The application must include supporting data.

For ease of review, FHWA recommends that the project narrative generally adhere to the following basic outline, and include a table of contents, project abstract, maps, and graphics:

a. Project Abstract: Describe project work that would be completed under the project, the hazardous road location or feature or the highway safety problem that the project would address, and whether the project is a complete project or part of a larger project with prior investment (maximum five sentences). The project abstract must succinctly describe how this specific request for TTPSF would be used to complete the project.

b. Project Description: Include information on the expected users of the project, a description of the hazardous road location or feature or the highway safety problem that the project would address, and how the project would address these challenges;

c. Applicant information and coordination with other entities: Identify the Indian tribal government applying for TTPSF, a description of cooperation with other entities in selecting projects from the TIP as required under 23 U.S.C. 202(e)(2), and information regarding any other entities involved in the project;

d. Grant Funds and Sources/Uses of Project Funds: Include information about the amount of grant funding requested for the project, availability/commitment of funds sources and uses of all project funds, total project costs, percentage of project costs that would be paid for with the TTPSF, and the identity and percentage shares of all parties providing funds for the project (including Federal funds provided under other programs);

e. Include a description of how the proposal meets the Selection Criteria identified in Section E, Subsection 1 Criteria.

3. Unique Entity Identifier and System for Award Management (SAM)

The TTPSF requires applicants to be either registered in SAM or provide their Data Universal Numbering System (DUNS) number with their application.

4. Submission Dates and Time

i. Deadline—Applications must be submitted through ttpsf@dot.gov no later than 5 p.m., e.t. on August 25, 2015 (the “application deadline”).

ii. Applicants are encouraged to submit applications in advance of the application deadline; however, applications will not be evaluated, and awards will not be made until after the application deadline.

iii. Upon submission of the applications to ttpsf@dot.gov, the applicants will receive automatic reply confirming transmittal of the application to the FHWA. Please contact Russell Garcia at 202-366-9815, should you not receive any confirmation from the FHWA.

iv. Late Applications—Applications received after the deadline will not be considered except in the case of unforeseen technical difficulties that are beyond the applicant's control. The FHWA will consider late applications on a case-by-case basis. Applicants are encouraged to submit additional information documenting the technical difficulties experienced, including a screen capture of any error messages received.

5. Intergovernmental Review

The TTPSF is not subject to the Intergovernmental Review of Federal Programs.

6. Funding Restrictions

There are no funding restrictions on any applications. However, FHWA anticipates high demand for this limited amount of funding and encourages applications with scalable requests that allow more tribes to receive funding and for requests that identify a commitment of other funding sources to complement the TTPSF funding request. Applicants should demonstrate the capacity to successfully implement the proposed request in a timely manner, and ensure that cost estimates and timelines to complete deliverables are included in their application.

7. Other Submission Requirements

Applications must be submitted electronically to ttpsf@dot.gov.

E. Application Review Information

1. Criteria

The FHWA will award TTPSF funds based on the selection criteria and policy considerations as outlined below. However, to be competitive, the applicant should demonstrate the extent to which a previously funded project or projects has been able to meet estimated project schedules and budget, as well as the ability to realize the outcomes for previous awards.

The FHWA shall give priority consideration to eligible projects under 23 U.S.C. 148(a)(4) that fall within one of the following four categories:

(1) Safety plans and safety planning activities;

(2) engineering improvements;

(3) enforcement and emergency services improvements; and

(4) education programs.

The priority categories were determined in consultation with the Tribal Transportation Program Coordinating Committee (TTPCC) and are intended to strengthen safety plans and safety planning activities in tribal transportation while also directing resources to needed safety improvements. The categories are also consistent with the FHWA State Strategic Highway Safety Plan (State SHSP) for Indian Lands which has as its mission to, “Implement effective transportation safety programs to save lives while respecting Native American culture and tradition by fostering communication, coordination, collaboration, and cooperation.” These categories are also consistent with the Tribal Safety Management Implementation Plan (TSMIP). The TSMIP recognizes that, “tribal safety plans are an essential component and an effective planning tool for prioritizing and implementing safety solutions.” The TSMIP also states that “reducing highway fatalities and serious injuries with any sustained success requires that all four elements (4Es) of highway safety be addressed—engineering, enforcement, education, and emergency services. A Tribal Safety Program, whether large or small, should work to address the 4Es, and its foundation, data.”

The FHWA will allocate the TTPSF among the four categories as follows: (1) Safety plans and safety planning activities (40 percent); (2) engineering improvements (30 percent); (3) enforcement and emergency services improvements (20 percent); and (4) education programs (10 percent). These funding goals were established with the TTPCC and will be reviewed annually and may be adjusted to reflect current tribal transportation safety priorities and needs. These proposed allocation amounts provide substantial funding for tribal safety plans to reflect the strong need that has been identified in this area and to ensure that all tribes have an opportunity to assess their safety needs and prioritize safety projects. The remaining proposed allocation amounts were established based on the significant need for transportation related capital improvement projects, while still allowing for applications that would cover all 4Es of safety. Because these percentages are only goals, they may be further adjusted to reflect the amounts requested in the applications received in response to this notice.

i. Safety Plans and Safety Planning Activities (Funding Goal 40 Percent of TTPSF)

The development of a tribal safety plan that is data driven, identifies transportation safety issues, prioritizes activities, is coordinated with the State SHSP, and promotes a comprehensive approach to addressing safety needs by including all 4Es, is a critical step in improving highway safety. Additional information on developing a tribal safety plan can be found at: http://flh.fhwa.dot.gov/programs/ttp/safety/.

Accordingly, FHWA will award TTPSF for developing and updating tribal safety plans, and other safety planning activities. Example projects are listed in 23 U.S.C. 148(a)(4), which can be found at: http://www.fhwa.dot.gov/map21/docs/title23usc.pdf.

The FHWA will use the following criteria in the evaluation of TTPSF funding requests for tribal safety plans: (1) Development of a tribal safety plan where none currently exists, and (2) age or status of an existing tribal safety plan.

The FHWA will use the following criteria in the evaluation of TTPSF funding requests for safety planning activities: (1) Inclusion of the activity in a completed State SHSP or tribal transportation safety plan that is no more than 5 years old; (2) submission of supporting data that demonstrates the need for the activity; (3) leveraging of private or other public funding; or (4) the project is part of a comprehensive approach to safety which includes other safety efforts.

Examples of eligible safety planning activities include, but are not limited to:

• Collection, analysis, and improvement of safety data; and

• Road safety assessments.

ii. Engineering Improvements (Funding Goal 30 Percent of TTPSF)

Example projects are listed in 23 U.S.C. 148(a)(4) which can be found at: http://www.fhwa.dot.gov/map21/docs/title23usc.pdf.

The FHWA will use the following criteria in the evaluation of funding requests for engineering improvements: (1) Inclusion of the activity in a completed State SHSP or tribal transportation safety plan that is no more than 5 years old; (2) inclusion of the activity in a completed road safety audit, engineering study, impact assessment or other engineering document; (3) submission of supporting data that demonstrates the need for the project; (4) ownership of the facility; (5) leveraging of private or other public funding; (6) years since the tribe has last received funding for an TTPSF engineering improvement project; or (7) the project is part of a comprehensive approach to safety which includes other safety efforts.

Examples of eligible engineering improvement projects include, but are not limited to:

• Intersection safety improvements;

• Pavement and shoulder widening (including addition of a passing lane to remedy an unsafe condition);

• Installation of rumble strips or another warning device, if the rumble strips or other warning devices do not adversely affect the safety or mobility of bicyclists and pedestrians, including persons with disabilities;

• Installation of a skid-resistant surface at an intersection or other location with a high frequency of crashes;

• Improvements for pedestrian or bicyclist safety or safety of persons with disabilities;

• Construction and improvement of railway-highway grade crossing safety feature;

• Installation of protective devices;

• Construction of a traffic calming feature;

• Elimination of a roadside hazard;

• Installation, replacement, and other improvement of highway signage and pavement markings, or a project to maintain minimum levels of retroreflectivity that addresses highway safety;

• Installation of a traffic control or other warning device at a location with high crash potential;

• Installation of guardrails, barriers (including barriers between construction work zones and traffic lanes for the safety of road users and workers), and crash attenuators;

• The addition or retrofitting of structures or other measures to eliminate or reduce crashes involving vehicles and wildlife;

• Installation of yellow-green signs and signals at pedestrian and bicycle crossings and in school zones;

• Construction and operational improvements on high risk rural roads;

• Geometric improvements to a road for safety purposes that improve safety;

• Roadway safety infrastructure improvements consistent with the recommendations included in the FHWA publication entitled “Highway Design Handbook for Older Drivers and Pedestrians”;

• Truck parking facilities eligible for funding under section 1401 of MAP-21;

• Systemic safety improvements; and

• Transportation-related safety projects for modes such as trails, docks, boardwalks, ice roads, and others that are eligible for TTP funds.

iii. Enforcement and Emergency Services Improvements (Funding Goal 20 Percent of TTPSF)

Example projects are listed in 23 U.S.C. 148(a)(4), which can be found at: http://www.fhwa.dot.gov/map21/docs/title23usc.pdf.

The FHWA will use the following criteria in the evaluation of funding requests for enforcement and emergency services improvements: (1) Inclusion of the activity in a completed State SHSP or tribal transportation safety plan that is no more than 5 years old; (2) submission of supporting data that demonstrates the need for the project; (3) leveraging of private or other public funding; or (4) the project is part of a comprehensive approach to safety which includes other safety efforts.

Examples of eligible enforcement and emergency services improvement activities include, but are not limited to:

• The conduct of a model traffic enforcement activity at a railway-highway crossing;

• Installation of a priority control system for emergency vehicles at signalized intersections; and

• Planning integrated interoperable emergency communications equipment, operational activities, or traffic enforcement activities (including police assistance) relating to work zone safety.

iv. Education Programs (Funding Goal 10 Percent of TTPSF)

Example projects are listed in 23 U.S.C. 148(a)(4), which can be found at: http://www.fhwa.dot.gov/map21/docs/title23usc.pdf.

The FHWA will use the following criteria in the evaluation of funding requests for education projects: (1) Inclusion of the activity in a completed State SHSP or tribal transportation safety plan that is no more than 5 years old; (2) submission of supporting data that demonstrates the need for the project; (3) leveraging of private or other public funding; or (4) the project is part of a comprehensive approach to safety which includes other safety efforts.

Examples of eligible education activities include, but are not limited to:

• Safety Management System Implementation Plan activities;

• Public service announcements; and

• Programs implemented to inform the public or address behaviors that affect transportation safety.

2. Review and Selection Process

The TTPSF grant applications will be evaluated in accordance with evaluation process discussed below. The FHWA will establish an evaluation team to review each application received by FHWA prior to the application deadline. The FHWA will lead the evaluation team, which will include members from the BIA. The evaluation team will include technical and professional staff with relevant experience and expertise in tribal transportation safety issues. The evaluation team will be responsible for evaluating and rating all eligible projects. The evaluation team will review each application against the evaluation criteria in each of the four categories and assign a rating of “Highly Qualified,” “Qualified,” or “Not Qualified” to each application for the FHWA Administrator's review. The FHWA Administrator will forward funding recommendations to the Office of the Secretary. The final funding decisions will be made by the Secretary of Transportation.

All applications will be evaluated and assigned a rating of “Highly Qualified,” “Qualified,” or “Not Qualified.” The ratings, as defined below, are proposed within each priority funding category as follows:

i. Safety Plans and Safety Planning Activities ¹

¹ The development of a tribal safety plan is the cornerstone for all future tribal safety activities including education, enforcement and emergency services, engineering improvements and other safety planning activities. Because of the importance of developing, completing or updating a tribal safety plan and for this one category only, applications will be deemed either “highly qualified” or “not qualified.” All applications to develop a new tribal safety plan, update an incomplete safety plan, or update an existing tribal safety plan more than 3 years old are deemed to be highly qualified. Applications not directed to developing, updating or completing existing a tribal safety plan or which address a plan not older than 3 years are deemed “Not Qualified.”

I. Development of Tribal Safety Plans

a. Highly Qualified: Requests (up to a maximum of $12,500) for development of new tribal safety plans or to update incomplete tribal safety plans; and requests (up to a maximum of $7,500) to update existing tribal safety plans that are more than 3 years old.

b. Not Qualified: Projects that do not meet the eligibility requirements; any request to update an existing tribal safety plan that is less than 3 years old.

II. Other Safety Planning Activities

a. Highly Qualified: Requests for other safety planning activities that are in a current State SHSP or tribal safety plan that is not more than 5 years old; submission of data that demonstrates the need for the activities; significant leveraging of private or public funding; and are part of a comprehensive approach to safety which includes other safety efforts. If the total amount of funding requested for applications rated as “highly qualified” exceeds the amount of available funding, FHWA will give priority funding consideration to funding one or more independent components of a highly qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component.

Applicants should be aware that while it is anticipated that most of these projects will be categorical exclusions because they do not lead to construction or have potentially significant traffic or other impacts, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

b. Qualified: Requests for other safety planning activities that are in a current State SHSP or tribal safety plan that is more than 5 years old; submission of some data that demonstrates the need for the activity; some leveraging of private or public funding; and is part of a comprehensive approach to safety which includes other safety efforts.

If the total amount of funding requested for applications rated as “qualified” exceeds the amount of available funding, FHWA will give priority funding consideration to funding one or more independent components of a qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component. Applicants should be aware that while it is anticipated that most of these projects will be categorical exclusions because they do not lead to construction or have potentially significant traffic or other impacts, depending on the relationship between the overall project and the independent component, the National Environmental Policy Act (NEPA) review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

c. Not Qualified: Projects that do not meet the eligibility requirements; projects that are not included in a State SHSP or tribal safety plan.

ii. Engineering Improvements

a. Highly Qualified: Efforts that are in a current State SHSP or tribal safety plan that is less than 5 years old; data included in the application that directly supports the project; project is in a current road safety audit, impact assessment, or other safety engineering study; projects located on a BIA or tribal facility; significant leverage with other funding; the tribe has not received funding for a TTPSF transportation safety construction project in more than 10 years or the project is part of a comprehensive approach to safety which includes three or more other safety efforts.

If the total amount of funding requested for applications rated as “highly qualified” exceeds the amount of available funding, FHWA will give priority funding consideration to funding one or more independent components of a highly qualified project. To be eligible, a component must meet eligibility criteria and must be a transportation improvement that has independent utility (i.e., is usable and a reasonable expenditure of Federal funds even if no other improvements are made in the area). In other words, FHWA may fund an independent component of a project, instead of the full project described in the application, only if that component provides transportation benefits and will be ready for its intended use upon completion of that component's construction. Applicants should be aware that, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

b. Qualified: Efforts that are in a current State SHSP or tribal safety plan, but the plan is more than 5 years old; some data included in the application that supports the project; project is in a road safety audit, impact assessment, or other safety engineering study that is more than 5 years old; project is located on a transportation facility not owned by a tribe or BIA; some leveraging with other funding; the tribe has not received funding for a TTPSF transportation safety construction project in the last 2 to 10 years or the projects is part of a coordinated approach with one to two other safety efforts.

If the total amount of funding requested for applications rated as “qualified” exceeds the amount of available funding, FHWA will give priority funding consideration to funding one or more independent components of a qualified project. To be eligible, a component must meet eligibility criteria and must be a transportation improvement that has independent utility (i.e., is usable and a reasonable expenditure of Federal funds even if no other improvements are made in the area). In other words, FHWA may fund an independent component of a project, instead of the full project described in the application, only if that component provides transportation benefits and will be ready for its intended use upon completion of that component's construction. Applicants should be aware that, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

c. Not Qualified: Projects that do not meet the eligibility requirements; are not included in a State SHSP or tribal safety plan; no data provided in the application to support the request; are not included in a road safety audit, impact assessment, or other safety engineering study; have received funding for a TTPSF transportation safety construction project within the last 2 years or do not have a comprehensive approach to safety with other partners.

iii. Enforcement and Emergency Services

a. Highly Qualified: Efforts that are in a current State SHSP or tribal safety plan that is less than 5 years old; data included in the application that directly supports the requested project; significant leverage with other funding or are part of a comprehensive approach to safety, including three or more other safety efforts.

If the total amount of funding requested for applications rated as “highly qualified” exceeds the amount of available funding, FHWA will give priority funding consideration to funding one or more independent components of a highly qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component. Applicants should be aware that while it is anticipated that most of these projects will be categorical exclusions because they do not lead to construction or have potentially significant traffic or other impacts, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

b. Qualified: Efforts that are in a current State SHSP or tribal safety plan but the plan is more than 5 years old; some data included in the application that supports the project; some leveraging with other funding or are coordinated with one to two other safety efforts.

If the total amount of funding requested for applications rated as “qualified” exceeds the amount of available funding, FHWA will give priority funding consideration to funding one or more independent components of a qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component. Applicants should be aware that while it is anticipated that most of these projects will be categorical exclusions because they do not lead to construction or have potentially significant traffic or other impacts, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

c. Not Qualified: Projects that do not meet the eligibility requirements; are not included in a State SHSP or tribal safety plan; no data provided in the application that supports the project; does not have a comprehensive approach to safety with other partners.

iv. Education Programs

a. Highly Qualified: Efforts that are in a current State SHSP or tribal safety plan that is less than 5 years old; data included in the application that directly supports the requested project; significant leverage with other funding or are part of a comprehensive approach to safety including three or more other safety efforts.

If the total amount of funding requested for applications rated as “highly qualified” exceeds the amount of available funding, FHWA will give priority funding consideration to funding one or more independent components of a highly qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component. Applicants should be aware that while it is anticipated that most of these projects will be categorical exclusions because they do not lead to construction or have potentially significant traffic or other impacts, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

b. Qualified: Efforts that are in a current State SHSP or tribal safety plan but the plan is more than 5 years old; some data included in the application that supports the project; some leveraging with other funding or are coordinated with one to two other safety efforts.

If the total amount of funding requested for applications rated as “qualified” exceeds the amount of available funding, FHWA will give priority funding consideration to funding one or more independent components of a qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component. Applicants should be aware that while it is anticipated that most of these projects will be categorical exclusions because they do not lead to construction or have potentially significant traffic or other impacts, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

c. Not Qualified: Projects that do not meet the eligibility requirements; are not included in a State SHSP or tribal safety plan; no data provided in the application that supports the project does not have a comprehensive approach to safety with other partners.

F. Federal Award Administration Information

1. Federal Award Notice

The FHWA will announce the awarded projects by posting a list of selected projects at http://flh.fhwa.dot.gov/programs/ttp/safety/. Following the announcement, successful applicants and unsuccessful applicants will be notified separately.

2. Administrative and National Policy Requirements

All awards will be administered pursuant to the Uniform Administrative Requirements, Cost Principles, and Audit Requirements for Federal Awards found in 2 CFR part 200. Applicable Federal laws, rules, and regulations set forth in title 23, U.S.C., and title 23 of the CFR, apply.

The TTPSF will be administered the same way as all TTP funds: FHWA Agreement tribes will receive funds in accordance with their Program Agreement through a RFA; BIA Agreement tribes will receive their funds through their BIA Regional Office; and Compact tribes will receive their funds through the Department of the Interior's Office of Self Governance.

3. Reporting

Required reporting follows the requirements for regular TTP funds.

G. Federal Awarding Agency Contact(s)

For further information concerning this notice please contact Russell Garcia, TTPSF Program Manager, via email at russell.garcia@dot.gov; by telephone at 202-366-9815; or by mail at Federal Highway Administration, 1200 New Jersey Avenue SE., Washington, DC 20590. Office hours are from 8:00 a.m. to 4:30 p.m. e.t., Monday through Friday, except Federal holidays. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

H. Other Information

1. Protection of Confidential Business Information

All information submitted as part of or in support of any application shall use publicly available data or data that can be made public and methodologies that are accepted by industry practice and standards, to the extent possible. If the application includes information you consider to be a trade secret or confidential commercial or financial information, the applicant should do the following: (1) Note on the front cover that the submission “Contains Confidential Business Information (CBI)”; (2) mark each affected page “CBI,” and (3) highlight or otherwise denote the CBI portions.

Authority: Section 1119 of Pub. L. 112-141; 23 U.S.C. 202(e).

Issued on: June 19, 2015.
Gregory G. Nadeau,
Acting Administrator, Federal Highway Administration.

[FR Doc. 2015-15709 Filed 6-25-15; 8:45 am]

BILLING CODE 4910-22-P